DEPARTMENT OF HEALTH AND HUMAN SERVICES

National Institutes of Health

Prospective Grant of Exclusive License: Human Derived Monocyte Attracting Purified Peptide Products for Treating Human Infections and Neoplasms in a Human Body

AGENCY: National Institutes of Health, Public Health Service, DHHS.

ACTION: Notice.

SUMMARY: This is notice, in accordance with 35 U.S.C. 209(c)(1) and 37 CFR 404.7(a)(1)(i), that the National Institutes of Health, Department of Health and Human Services, is contemplating the grant of an exclusive license to practice the inventions embodied in the U.S. Patent Applications and Issued Patents listed below to AlleCure Corporation, having a place of business in Chatsworth, California. The patent rights of these inventions have been assigned to the United States of America.

• USPA 07/330,446 filed March 30, 1989 and entitled “Human Derived Monocyte Attracting Purified Peptide Products Useful in a Method of Treating Infections and Neoplasms in a Human Body and the Cloning of Full Length cDNA Thereof”

• USPA 07/686,264 filed April 15, 1991 now USPN 6,090,795 issued July 18, 2000

• USPA 08/449,552 filed May 24, 1995 now USPN 5,532,144 issued July 2, 1996

• USPA 08/466,288 filed June 6, 1995 now USPN 5,714,578 issued February 3, 1998

• PCT/US90/00040 filed January 2, 1990

The prospective exclusive license territory will be worldwide and the field of use may be limited to the treatment of asthma, restenosis, hepatitis B and cancer.

DATES: Only written comments and/or license applications which are received by the National Institutes of Health on or before January 28, 2002 will be considered.

ADDRESSES: Requests for copies of the patent, inquiries, comment and other materials relating to the contemplated exclusive license should be directed to: Percy S. Pan, Technology Licensing Specialist, Office of Technology Transfer, National Institutes of Health, 6011 Executive Boulevard, Suite 325, Rockville, MD 20852-3804; Telephone 301-496-7736 x256; Facsimile 301-402-0220; E-mail panp@od.nih.gov.

SUPPLEMENTARY INFORMATION: The invention relates to a human derived purified peptide product that exhibits monocytic chemotactic activity (MCA). A method of preparing the peptide is disclosed as well as a method of treating neoplasms and infections by administering the peptides. A pharmaceutical composition of the peptide is also claimed. The peptide may be useful in the treatment of various disorders including autoimmune disease, chronic inflammatory diseases, and cancer. This peptide, also known as MCP-1, is a b chemokine. Chemokines are multipotent cytokines that localize and enhance inflammation by inducting chemotaxis and activation of different types of inflammatory cells. This peptide is a chemotactic factor for monocytes. It stimulates histamine release and regulates cytokine production in monocytes.

The prospective exclusive license will be royalty-bearing and will comply with the terms and conditions of 35 U.S.C. 209 and 37 CFR 404.7. The prospective exclusive license may be granted unless within sixty (60) days from the date of this published notice, the NIH receives written evidence and argument that establish that the grant of the license would not be consistent with the requirements of 35 U.S.C. 209 and 37 CFR 404.7.

Applications for a license in the field of use filed in response to this notice will be treated as objections to the grant of the contemplated exclusive license. Comments and objections submitted to this notice will not be made available for public inspection and to the extent permitted by law, will not be released under the Freedom of Information Act, 5 U.S.C. 552.

Dated: November 15, 2001.
Jack Spiegel,
Director, Division of Technology Development and Transfer, Office of Technology Transfer.

[FR Doc. 01-29544 Filed 11-27-01; 8:45 am]

BILLING CODE 4140-01-P